DEPARTMENT OF ENERGY

Federal Energy Regulatory Commission

[Docket No. CP11-142-000]

Tennessee Gas Pipeline Company; Notice of Application

Take notice that on March 18, 2011, Tennessee Gas Pipeline Company (Tennessee), 1001 Louisiana Street, Houston, Texas 77002, filed an application in Docket No. CP11-142-000 pursuant to section 7(b) of the Natural Gas Act (NGA) and Part 157 of the Commission's regulations, requesting authorization to abandon in place and by removal certain inactive supply pipelines, associated meters, and appurtenances located primarily in the East and West Cameron areas in federal offshore waters of the Outer Continental Shelf, Louisiana, referred to as the Southwest Leg Abandonment Project. The facilities to be abandoned include approximately 64.5 miles of 30-inch, 10.5 miles of 24-inch, 13.5 miles of 16-inch and 2.5 miles of 10-inch supply pipelines, as well as related meters and associated appurtenances. Tennessee states that the subject facilities have been out of service due to damage received by Hurricane Ike in September 2008, all as more fully set forth in the application which is on file with the Commission and open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Any questions concerning this application may be directed to Thomas G. Joyce, Manager, Certificates, Tennessee Gas Pipeline Company, 1001 Louisiana Street, Houston, Texas 77002, by telephone at (713) 420-3299, by facsimile at (713) 420-1473, or by e-mail at tom.joyce@elpaso.com; Susan T. Halbach, Senior Counsel, Tennessee Gas Pipeline Company, 1001 Louisiana Street, Houston, Texas 77002, by telephone at (713) 420-5751, by facsimile at (713) 420-1601, or by e-mail at susan.halbach@elpaso.com; or Debbie Kalisek, Regulatory Analyst, Tennessee Gas Pipeline Company, 1001 Louisiana Street, Houston, Texas 77002, by telephone at (713) 420-3292, by facsimile at (713) 420-1473, or by e-mail at debbie.kalisek@elpaso.com.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's Web site under the “e-Filing” link. The Commission strongly encourages electronic filings.

Comment Date: April 21, 2010.

Dated: March 31, 2011.
Kimberly D. Bose,
Secretary.

[FR Doc. 2011-8247 Filed 4-6-11; 8:45 am]

BILLING CODE 6717-01-P